FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Filings Related to the Gramm-Leach-Bliley Act (FR 4010, FR 4011, FR 4012, FR 4017, FR 4019, FR 4023; OMB No. 7100-0292).

FOR FURTHER INFORMATION CONTACT:

Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, Without Revision, of the Following Information Collections

Collection title: Filings Related to the Gramm-Leach-Bliley Act.

Collection identifiers: FR 4010, FR 4011, FR 4012, FR 4017, FR 4019, FR 4023.

OMB control number: 7100-0292.

General description of collection: The reporting and recordkeeping requirements in this collection, which are related to amendments made by the Gramm-Leach-Bliley Act to the Bank Holding Company Act of 1956 and the Federal Reserve Act, are composed of the following parts:

• Declarations to Become a Financial Holding Company (FR 4010)

• Requests for Determinations and Interpretations Regarding Activities Financial in Nature (FR 4011)

• Notices of Failure to Meet Capital or Management Requirements (FR 4012)

• Notices by State Member Banks to Invest in Financial Subsidiaries (FR 4017)

• Regulatory Relief Requests Associated with Merchant Banking Activities (FR 4019)

• Recordkeeping Requirements Associated with Merchant Banking Activities (FR 4023)

There are no formal reporting forms for these information collections (the FR designations are for internal purposes only). In each case, the information required to be filed is described in the Board's regulations. The reporting and recordkeeping requirements are necessary to enable the Board to determine eligibility, provide appropriate determinations and interpretations, stay appraised of financial conditions, and asses that certain activities are done in accordance with the applicable regulatory requirements.

Frequency: On occasion.

Respondents: Bank holding companies, savings and loan holding companies, foreign banks, and state member banks, as well as other interested parties with respect to the FR 4011.

Total estimated number of respondents: 87.

Total estimated annual burden hours: 1,698.¹

¹ More detailed information regarding this collection, including more detailed burden estimates, can be found in the OMB Supporting Statement posted at https://www.federalreserve.gov/apps/reportingforms/home/review. On the page displayed at the link, you can find the OMB Supporting Statement by referencing the collection identifier, FR 4010, FR 4011, FR 4012, FR 4017, FR 4019, or FR 4023.

Current actions: On January 27, 2023, the Board published a notice in the Federal Register (88 FR 5340) requesting public comment for 60 days on the extension, without revision, of the FR 4010, FR 4011, FR 4012, FR 4017, FR 4019, FR 4023. The comment period for this notice expired on March 28, 2023. The Board did not receive any comments.

Board of Governors of the Federal Reserve System, June 1, 2023.
Michele Taylor Fennell,
Deputy Associate Secretary of the Board.

[FR Doc. 2023-12104 Filed 6-6-23; 8:45 am]

BILLING CODE 6210-01-P